DEPARTMENT OF LABOR

Employment and Training Administration

[TA-W-39,330]

Volunteer Leather, Milan, Tennessee; Notice of Negative Determination Regarding Application for Reconsideration

By application of June 29, 2001, the company requested administrative reconsideration of the Department's negative determination regarding eligibility for workers and former workers of the subject firm to apply for Trade Adjustment Assistance (TAA). The denial notice applicable to workers of Volunteer Leather, Milan, Tennessee was issued on June 4, 2001, and was published in the Federal Register on June 27, 2001 (66 FR 34256).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The investigation findings revealed that criterion (3) of the group eligibility requirements of Section 222 of the Trade Act of 1974 was not met. Increased imports did not contribute importantly to worker separations at the subject firm. The preponderance in the declines in employment at the Volunteer Leather, Milan, Tennessee is the direct result of plant production being shifted to another domestic location. Reported company sales and production increased during the relevant period.

The request for reconsideration claims that the reported company-wide sales and production during the original investigation, would have reflected a decline in sales and production if it were not for the acquisition of the subject firm during June 2000. The petitioner supplied specific data pertaining to the Milan, Tennessee plant production during the first quarter of 2001. The application also supplies estimated company-wide production, if the subject plant was included in the company figures for the first quarter of 2000. Extrapolating the estimated production figures from the original reported production depicts stable plant production during the two comparable periods. The findings of the original investigation indicated that “the preponderance in the declines in employment at Volunteer Leather, Milan, Tennessee is the direct result of plant production being shifted to another domestic location. The domestic shift is due to company-wide excess capacity.” The information the claimant provides depicts excess capacity at another company location, in combination of steady production at the subject plant, thus supporting the original decision.

The petitioner further states that the increasing cost of cattle hides (raw material) and imports of shoes (the product the leather is produced for) are contributing factors to layoffs at the subject plant. Neither factor is a basis for certifying the worker group at Volunteer Leather producing finished leather.

Conclusion

After review of the application and investigative findings, I conclude that there has been no error or misinterpretation of the law or of the facts which would justify reconsideration of the Department of Labor's prior decision. Accordingly, the application is denied.

Signed at Washington DC, this 15th day of October 2001.
Edward A. Tomchick,
Director, Division of Trade Adjustment Assistance.

[FR Doc. 01-27243 Filed 10-29-01; 8:45 am]

BILLING CODE 4510-30-M